OFFICE OF THE DIRECTOR OF NATIONAL INTELLIGENCE

National Counterterrorism Center

Privacy Act of 1974; System of Records

AGENCY: National Counterterrorism Center, Office of the Director of National Intelligence.

ACTION: Notice to establish systems of records.

SUMMARY: The Office of the Director of National Intelligence (ODNI) National Counterterrorism Center (NCTC) is establishing several systems of records subject to the Privacy Act of 1974, as amended, 5 U.S.C. 552a. These systems of records are maintained by NCTC.

DATES: This action will be effective on February 6, 2008, unless comments received result in a contrary determination.

ADDRESSES: You may submit comments, identified by RIN number, by any of the following methods:

Federal eRulemaking Portal: http://www.regulations.gov.

Mail: Director, Information Management Office, Office of the Director of National Intelligence, Washington, DC 20511.

FOR FURTHER INFORMATION CONTACT: Mr. John F. Hackett, Director, Information Management Office, 703-482-3610.

SUPPLEMENTARY INFORMATION: NCTC was established by Executive Order (EO) 13354 (Aug. 27, 2004) and codified as an element of the ODNI in the Intelligence Reform and Terrorism Prevention Act (IRTPA) of 2004.

NCTC serves as the primary organization in the United States Government for integrating and analyzing all intelligence pertaining to terrorism possessed or acquired by the United States Government (except purely domestic terrorism); conducts strategic operational planning and assigns lead operational responsibilities for counterterrorism activities; serves as the central and shared knowledge bank on known and suspected terrorists and international terror groups; provides all-source intelligence support to government-wide counterterrorism activities; ensures that agencies, as appropriate, have access to and receive intelligence needed to accomplish their assigned activities; and ensures that agencies have access to and receive all-source intelligence support needed to execute their counterterrorism plans or perform independent, alternative analysis. The Director of NCTC serves as the principal adviser to the Director of National Intelligence (DNI)on intelligence operations relating to counterterrorism. The NCTC Director advises the DNI on how well United States Government counterterrorism program recommendations and budget proposals conform to priorities established by the President; sets priorities for counterterrorism collection and analysis; and develops integrated collection strategies to fill key information gaps. The DNI has designated the Director, NCTC, as Mission Manager for Counterterrorism.

NCTC's partner organizations include, but are not limited to: Central Intelligence Agency; Department of Defense; Department of Homeland Security; Department of Justice/Federal Bureau of Investigation; Department of State; Department of Energy; Nuclear Regulatory Commission; United States Capitol Police; Department of Treasury; Department of Agriculture; Department of Health and Human Services.

Several of the systems of records being published contain information about known or suspected terrorists that derive from law enforcement and intelligence sources. In addition, information from several of these systems is provided to agencies for the purpose of conducting intelligence and law enforcement activities within the scope of their lawful counter-terrorism responsibilities and authorities. Accordingly, to protect classified and sensitive information and to prevent the compromise of ongoing counterterrorism investigations and intelligence sources and methods, the DNI is proposing to exempt records in these systems from certain portions of the Privacy Act and to continue to exempt from certain portions of the Privacy Act those records for which the source agency claimed exemption. As required by the Privacy Act, a proposed rule is being published concurrently with this notice to seek public comment on the proposal to exempt these systems.

In accordance with 5 U.S.C. 552a(r), the ODNI has provided a report of these new systems of records to the Office of Management and Budget and to Congress.

Dated: December 13, 2007.
John F. Hackett,
Director, Information Management Office.

SYSTEM NAME:

National Counterterrorism Center Human Resources Management System (ODNI/NCTC-001).

SECURITY CLASSIFICATION:

The classification of records in this system can range from UNCLASSIFIED to SECRET.

SYSTEM LOCATION:

National Counterterrorism Center (NCTC), Office of the Director of National Intelligence (ODNI), Washington, DC 20511.

CATEGORIES OF INDIVIDUALS COVERED BY THE SYSTEM:

Current and former NCTC staff (NCTC employees, detailees, assignees, employees of NCTC industrial contractors, and independent contractors to NCTC) and applicants for positions at NCTC.

CATEGORIES OF RECORDS IN THE SYSTEM:

Personnel data including name, address, title, grade, social security number, employing entity, NCTC assignment and emergency contact information; knowledge, skills, and relevant experience; recruitment and hiring records; awards and evaluations.

AUTHORITY FOR MAINTENANCE OF THE SYSTEM:

The Intelligence Reform and Terrorism Prevention Act of 2004, Pub. L. No. 108-458, 118 Stat. 3638 (Dec. 17, 2004); The National Security Act of 1947, as amended, 50 U.S.C. 401-442; Exec. Order No. 13,354, 69 Fed. Reg. 53,589 (2004); Exec. Order No. 12,333, as amended, 46 Fed. Reg. 59,941 (1981).

PURPOSE(S):

The NCTC Human Resource System serves as the human resource records management system for NCTC.

ROUTINE USES OF RECORDS MAINTAINED IN THE SYSTEM, INCLUDING CATEGORIES OF USERS AND THE PURPOSES OF SUCH USES:

See General Routine Uses Applicable to More Than One ODNI Privacy Act System of Records, Subpart C of ODNI's Privacy Act Regulation published concurrently with this notice and incorporated by reference (see also http://www.dni.gov).

DISCLOSURE TO CONSUMER REPORTING AGENCIES:

None.

POLICIES AND PRACTICES FOR STORING, RETRIEVING, ACCESSING, RETAINING, AND DISPOSING OF RECORDS IN THE SYSTEM:

STORAGE:

Electronic records are stored in secure file-servers located within secure facilities under the control of NCTC. Paper and other hard-copy records are stored in secured areas within the control of NCTC.

RETRIEVABILITY:

By name, social security number, or other identifier. Information may be retrieved from this System of Records by automated or hand searches based on existing indices and automated capabilities utilized in the normal course of business. Only authorized personnel may search this system.

SAFEGUARDS:

Information in this system is safeguarded in accordance with recommended and/or prescribed administrative, physical, and technical safeguards. Records are maintained in a secure government or contractor facility with access to the facility limited to authorized personnel only and authorized and escorted visitors. Physical security protections include guards and locked facilities requiring badges and passwords for access. Records are accessed only by authorized government personnel and contractors holding appropriate security clearances and who have a valid business reason to access the records. Communications are encrypted where required and other safeguards are in place to monitor and audit access and to detect intrusions. Backup tapes are maintained in a secure, off-site location.

RETENTION AND DISPOSAL:

Pursuant to 44 U.S.C. 3303a(d) and 36 CFR Chapter 12, Subchapter B, Part 128-Disposition of Federal Records, records will be maintained and disposed of in accordance with the National Archives and Records Administration (NARA) General Records Schedule 1.

SYSTEM MANAGER(S) AND ADDRESS:

NCTC Human Resource System Manager, c/o Director, Information Management Office, Office of the Director of National Intelligence, Washington, DC 20511.

NOTIFICATION PROCEDURES:

As specified below, records in this system are exempt from certain notification, access, and amendment procedures. Individuals seeking to learn whether this system contains non-exempt information about them (“notification”) should address inquiries to the ODNI at the address and according to the requirements set forth below under the heading “Record Access Procedures.”

RECORD ACCESS PROCEDURES:

As specified below, records in this system have been exempted from certain notification, access, and amendment procedures. A request for access to non-exempt records shall be made in writing with the envelope and letter clearly marked “Privacy Act Request.” Each request must provide the requester's full name and complete address. The requester must sign the request and have it verified by a notary public. Alternately, the request may be submitted under 28 U.S.C. 1746, certifying the requester's identity and acknowledging that obtaining records under false pretenses constitutes a criminal offense. Requests for access to information must be addressed to the Director, Information Management Office, Office of the Director of National Intelligence, Washington, DC 20511. Regulations governing access to one's records or for appealing an initial determination concerning access to records are contained in the ODNI regulation implementing the Privacy Act.

CONTESTING RECORD PROCEDURES:

As specified below, records in this system are exempt from certain notification, access, and amendment procedures. Individuals seeking to correct or amend non-exempt records should address their requests to the ODNI at the address and according to the requirements set forth above under the heading “Record Access Procedures.” Regulations governing access to and amendment of one's records or for appealing an initial determination concerning access or amendment of records are contained in the ODNI regulation implementing the Privacy Act.

RECORD SOURCE CATEGORIES:

Data is obtained directly from subjects and from personnel records maintained by subjects' employers. Data is also generated by NCTC in accordance with ODNI human resource policies governing recruitment, evaluation, promotions, and awards.

EXEMPTIONS CLAIMED FOR THE SYSTEM:

Records contained within this System of Records may be exempted from the requirements of subsections (c)(3);(d)(1),(2),(3),(4); (e)(1) and (e)(4)(G),(H),(I); and (f) of the Privacy Act pursuant to 5 U.S.C. 552a(k)(1) and (k)(5). Records may be exempted from these subsections or additionally, from the requirements of subsections (c)(4);(e)(2),(3),(5),(8),(12); and (g) of the Privacy Act consistent with any exemptions claimed under 5 U.S.C. 552a(j) or (k) by the originator of the record, provided the reason for the exemption remains valid and necessary.

SYSTEM NAME:

National Counterterrorism Center Access Authorization Records (ODNI/NCTC-002).

SECURITY CLASSIFICATION:

The classification of records in this system can range from UNCLASSIFIED to SECRET.

SYSTEM LOCATION:

National Counterterrorism Center (NCTC), Office of the Director of National Intelligence (ODNI), Washington, DC 20511.

CATEGORIES OF INDIVIDUALS COVERED BY THE SYSTEM:

Current and former NCTC staff (NCTC employees, detailees, assignees, employees of NCTC industrial contractors, and independent contractors to NCTC) and other individuals given access to NCTC facilities and systems.

CATEGORIES OF RECORDS IN THE SYSTEM:

NCTC personnel biographic and job-related data including name, social security number, employing entity, job title and phone number, role-based accesses and permissions, emergency contact information, and supervisory point of contact.

AUTHORITY FOR MAINTENANCE OF THE SYSTEM:

The Intelligence Reform and Terrorism Prevention Act of 2004, Pub. L. No. 108-458, 118 Stat. 3638 (Dec. 17, 2004); The National Security Act of 1947, as amended, 50 U.S.C. 401-442; Exec. Order No. 13,354, 69 Fed. Reg. 53,589 (2004); Exec. Order No. 12,333, as amended, 46 Fed. Reg. 59,941 (1981).

PURPOSE(S):

NCTC Access Authorization Records provide data regarding eligible users' access to NCTC facilities and internal and external systems and databases; access authorization records enable NCTC to monitor compliance with NCTC's access policies and to provide metrics/statistics regarding levels of access as related to official duties.

ROUTINE USES OF RECORDS MAINTAINED IN THE SYSTEM, INCLUDING CATEGORIES OF USERS AND THE PURPOSES OF SUCH USES:

See General Routine Uses Applicable to More Than One ODNI Privacy Act System of Records, Subpart C of ODNI's Privacy Act Regulation published concurrently with this notice and incorporated by reference (see also http://www.dni.gov).

DISCLOSURE TO CONSUMER REPORTING AGENCIES:

None.

POLICIES AND PRACTICES FOR STORING, RETRIEVING, ACCESSING, RETAINING, AND DISPOSING OF RECORDS IN THE SYSTEM:

STORAGE:

Electronic records are stored in secure file-servers located within secure facilities under the control of NCTC. Paper and other hard-copy records are stored in secured areas within the control of NCTC.

RETRIEVABILITY:

By name, social security number, or other identifier. Information may be retrieved from this System of Records by automated or hand searches based on existing indices and automated capabilities utilized in the normal course of business. Only authorized personnel may search this system.

SAFEGUARDS:

Information in this system is safeguarded in accordance with recommended and/or prescribed administrative, physical, and technical safeguards. Records are maintained in a secure government or contractor facility with access to the facility limited to authorized personnel only and authorized and escorted visitors. Physical security protections include guards and locked facilities requiring badges and passwords for access. Records are accessed only by authorized government personnel and contractors holding appropriate security clearances and who have a valid business reason to access the records. Communications are encrypted where required and other safeguards are in place to monitor and audit access and to detect intrusions. Backup tapes are maintained in a secure, off-site location.

RETENTION AND DISPOSAL:

Pursuant to 44 U.S.C. 3303a(d) and 36 CFR Chapter 12, Subchapter B, Part 1228—Disposition of Federal Records, access authorization records will be maintained and disposed of in accordance with the National Archives and Records Administration (NARA) General Records Schedule (GRS) Nos. 18 (facility access) and 24 (computer access).

SYSTEM MANAGER(S) AND ADDRESS:

NCTC Information Management Officer, c/o Director, Information Management Office, Office of the Director of National Intelligence, Washington, DC 20511.

NOTIFICATION PROCEDURES:

As specified below, records in this system have been exempted from certain notification, access, and amendment procedures. Individuals seeking to learn whether this system contains non-exempt information about them (“notification”) should address inquiries to the ODNI at the address and according to the requirements set forth below under the heading “Record Access Procedures.”

RECORD ACCESS PROCEDURES:

As specified below, records in this system have been exempted from certain notification, access, and amendment procedures. A request for access to non-exempt records shall be made in writing with the envelope and letter clearly marked “Privacy Act Request.” Each request must provide the requester's full name and complete address. The requester must sign the request and have it verified by a notary public. Alternately, the request may be submitted under 28 U.S.C. 1746, certifying the requester's identity and acknowledging that obtaining records under false pretenses constitutes a criminal offense. Requests for access to information must be addressed to the Director, Information Management Office, Office of the Director of National Intelligence, Washington, DC 20511. Regulations governing access to one's records or for appealing an initial determination concerning access to records are contained in the ODNI regulation implementing the Privacy Act.

CONTESTING RECORD PROCEDURES:

As specified below, records in this system are exempt from certain notification, access, and amendment procedures. Individuals seeking to correct or amend non-exempt records should address their requests to the ODNI at the address and according to the requirements set forth above under the heading “Record Access Procedures.” Regulations governing access to and amendment of one's records or for appealing an initial determination concerning access or amendment of records are contained in the ODNI regulation implementing the Privacy Act.

RECORD SOURCE CATEGORIES:

NCTC staff, other individuals seeking access, and their employing entities provide personnel-related information upon entrance on duty and/or as part of access authorization requirements. Authorized NCTC officials provide information about specific grants of access to eligible systems users.

EXEMPTIONS CLAIMED FOR THE SYSTEM:

Records contained within this System of Records may be exempted from the requirements of subsections (c)(3); (d)(1), (2), (3), (4); (e)(1) and (e)(4)(G), (H), (I); and (f) of the Privacy Act pursuant to 5 U.S.C. 552a(k)(1). Records may be exempted from these subsections or, additionally, from the requirements of subsections (c)(4); (e)(2), (3), (5), (8), (12); and (g) of the Privacy Act consistent with any exemptions claimed under 5 U.S.C. 552a(j) or (k) by the originator of the record, provided the reason for the exemption remains valid and necessary.

SYSTEM NAME:

National Counterterrorism Center Telephone Directory (ODNI/NCTC-003).

SECURITY CLASSIFICATION:

The classification of records in this system can range from UNCLASSIFIED to SECRET.

SYSTEM LOCATION:

National Counterterrorism Center (NCTC), Office of the Director of National intelligence (ODNI), Washington, DC 20511.

CATEGORIES OF INDIVIDUALS COVERED BY THE SYSTEM:

Current NCTC staff (NCTC employees, detailees, assignees, employees of NCTC industrial contractors, and independent contractors to NCTC).

CATEGORIES OF RECORDS IN THE SYSTEM:

Biographic data, including name, employer, job title, address, phone numbers, and emergency contact information.

AUTHORITY FOR MAINTENANCE OF THE SYSTEM:

The Intelligence Reform and Terrorism Prevention Act of 2004, Pub. L. No. 108-458, 118 Stat. 3638 (Dec. 17, 2004); The National Security Act of 1947, as amended, 50 U.S.C. 401-442; Exec. Order No. 13,354, 69 Fed. Reg. 53,589 (2004); Exec. Order No. 12,333, as amended, 46 Fed. Reg. 59,941 (1981).

PURPOSE(S):

The NCTC Telephone Directory serves as the central personnel directory for NCTC.

Routine Uses Of Records Maintained In The System, Including Categories Of Users And The Purposes Of Such Uses:

See General Routine Uses Applicable to More Than One ODNI Privacy Act System of Records, Subpart C of ODNI's Privacy Act Regulation published concurrently with this notice and incorporated by reference (see also http://www.dni.gov).

DISCLOSURE TO CONSUMER REPORTING AGENCIES:

None.

POLICIES AND PRACTICES FOR STORING, RETRIEVING, ACCESSING, RETAINING, AND DISPOSING OF RECORDS IN THE SYSTEM:

STORAGE:

Electronic records are stored in secure file-servers located within secure facilities under the control of NCTC. Paper and other hard-copy records are stored in secured areas within the control of NCTC.

RETRIEVABILITY:

By name, social security number, or other identifier. Information may be retrieved from this System of Records by automated or hand searches based on existing indices and automated capabilities utilized in the normal course of business. Only authorized personnel may search this system.

SAFEGUARDS:

Information in this system is safeguarded in accordance with recommended and/or prescribed administrative, physical, and technical safeguards. Records are maintained in a secure government or contractor facility with access to the facility limited to authorized personnel only and authorized and escorted visitors. Physical security protections include guards and locked facilities requiring badges and passwords for access. Records are accessed only by authorized government personnel and contractors holding appropriate security clearances and who have a valid business reason to access the records. Communications are encrypted where required and other safeguards are in place to monitor and audit access and to detect intrusions. Backup tapes are maintained in a secure, off-site location.

RETENTION AND DISPOSAL:

Pursuant to 44 U.S.C. 3303a(d) and 36 CFR Chapter 12, Subchapter B, Part 1228-Disposition of Federal Records, the NCTC Telephone Directory will be maintained and disposed of in accordance with the National Archives and Records Administration (NARA) General Records Schedule (GRS) No. 23.

SYSTEM MANAGER(S) AND ADDRESS:

NCTC Information Management Officer, c/o Director, Information Management Office, Office of the Director of National Intelligence, Washington, DC 20511.

NOTIFICATION PROCEDURES:

As specified below, records in this system have been exempted from certain notification, access, and amendment procedures. Individuals seeking to learn whether this system contains non-exempt information about them (“notification”) should address inquiries to the ODNI at the address and according to the requirements set forth below under the heading “Record Access Procedures.”

RECORD ACCESS PROCEDURES:

As specified below, records in this system have been exempted from certain notification, access, and amendment procedures. A request for access to non-exempt records shall be made in writing with the envelope and letter clearly marked “Privacy Act Request.” Each request must provide the requester's full name and complete address. The requester must sign the request and have it verified by a notary public. Alternately, the request may be submitted under 28 U.S.C. 1746, certifying the requester's identity and acknowledging that obtaining records under false pretenses constitutes a criminal offense. Requests for access to information must be addressed to the Director, Information Management Office, Office of the Director of National Intelligence, Washington, DC 20511. Regulations governing access to one's records or for appealing an initial determination concerning access to records are contained in the ODNI regulation implementing the Privacy Act.

CONTESTING RECORD PROCEDURES:

As specified below, records in this system are exempt from certain notification, access, and amendment procedures.

Individuals seeking to correct or amend non-exempt records should address their requests to the ODNI at the address and according to the requirements set forth above under the heading “Record Access Procedures.” Regulations governing access to and amendment of one's records or for appealing an initial determination concerning access or amendment of records are contained in the ODNI regulation implementing the Privacy Act.

RECORD SOURCE CATEGORIES:

NCTC staff (NCTC employees, detailees, assignees, employees of NCTC industrial contractors, and independent contractors to NCTC) provide this information upon entrance on duty at NCTC.

EXEMPTIONS CLAIMED FOR THE SYSTEM:

Records contained within this System of Records may be exempted from the requirements of subsections (c)(3); (d)(1), (2), (3), (4); (e)(1) and (e)(4)(G), (H), (I); and (f) of the Privacy Act pursuant to 5 U.S.C. 552a(k)(1). Records may be exempted from these subsections or, additionally, from the requirements of subsections (c)(4); (e)(2), (3), (5), (8), (12); and (g) of the Privacy Act consistent with any exemptions claimed under 5 U.S.C. 552a(j) or (k) by the originator of the record, provided the reason for the exemption remains valid and necessary.

SYSTEM NAME:

National Counterterrorism Center Knowledge Repository (SANCTUM)(ODNI/NCTC-004).

SECURITY CLASSIFICATION:

The classification of records in this system can range from UNCLASSIFIED to TOP SECRET.

SYSTEM LOCATION:

National Counterterrorism Center (NCTC), Office of the Director of National Intelligence (ODNI), Washington, DC 20511.

CATEGORIES OF INDIVIDUALS COVERED BY THE SYSTEM:

Individuals known or suspected to be or have been engaged in conduct constituting, in preparation for, in aid of, or related to terrorism.

CATEGORIES OF RECORDS IN THE SYSTEM:

Classified and unclassified information from diplomatic, financial, military, homeland security, intelligence, or law enforcement activities relating to counterterrorism or from any Federal, State, or local government; foreign government information; public source material; or, information from other sources necessary to fulfill the mission of NCTC. This includes information concerning known or suspected terrorists including, but not limited to, reports, message traffic, biographic data, biometrics, relationships or associations, or other information related to counterterrorism.

AUTHORITY FOR MAINTENANCE OF THE SYSTEM:

The Intelligence Reform and Terrorism Prevention Act of 2004, Pub. L. No. 108-458, 118 Stat. 3638 (Dec. 17, 2004); The National Security Act of 1947, as amended, 50 U.S.C. 401-442; Exec. Order No. 13,354, 69 Fed. Reg. 53,589 (2004); E.O. 12,333, as amended, 46 Fed. Reg. 59,941 (1981).

PURPOSE(S):

NCTC Knowledge Repository (SANCTUM) supports NCTC's approach to strengthening the sharing of terrorism information through the development of an integrated information technology architecture and knowledge base. Specifically, SANCTUM provides a centralized repository of information needed to fight terrorism as well as a set of common services to access, manage, enrich, and deliver this information to end users and mission-oriented applications.

ROUTINE USES OF RECORDS MAINTAINED IN THE SYSTEM, INCLUDING CATEGORIES OF USERS AND THE PURPOSES OF SUCH USES:

See General Routine Uses Applicable to More Than One ODNI Privacy Act System of Records, Subpart C of ODNI's Privacy Act Regulation published concurrently with this notice and incorporated by reference (see also http://www.dni.gov).

DISCLOSURE TO CONSUMER REPORTING AGENCIES:

None.

POLICIES AND PRACTICES FOR STORING, RETRIEVING, ACCESSING, RETAINING, AND DISPOSING OF RECORDS IN THE SYSTEM:

STORAGE:

Electronic records are stored in secure file-servers located within secure facilities under the control of NCTC. Paper and other hard-copy records are stored in secured areas within the control of NCTC.

RETRIEVABILITY:

By name or other identifier. Information may be retrieved from this System of Records by automated or hand searches based on existing indices and automated capabilities utilized in the normal course of business. Only authorized personnel with a need to know may search this system.

SAFEGUARDS:

Information in this system is safeguarded in accordance with recommended and/or prescribed administrative, physical, and technical safeguards. Records are maintained in a secure government or contractor facility with access to the facility limited to authorized personnel only and authorized and escorted visitors. Physical security protections include guards and locked facilities requiring badges and passwords for access. Records are accessed only by authorized government personnel and contractors holding appropriate security clearances and who have a valid business reason to access the records. Communications are encrypted where required and other safeguards are in place to monitor and audit access and to detect intrusions. Backup tapes are maintained in a secure, off-site location.

RETENTION AND DISPOSAL:

Pursuant to 44 U.S.C. 3303a(d) and 36 CFR Chapter 12, Subchapter B, Part 1228—Disposition of Federal Records, records will not be disposed of until such time as the National Archives and Records Administration (NARA) approves an applicable ODNI Records Control Schedule.

SYSTEM MANAGER(S) AND ADDRESS:

NCTC SANCTUM System Manager, c/o Director, Information Management Office, Office of the Director of National Intelligence, Washington, DC 20511.

NOTIFICATION PROCEDURES:

As specified below, records in this system have been exempted from certain notification, access, and amendment procedures. Individuals seeking to learn whether this system contains non-exempt information about them (“notification”) should address inquiries to the ODNI at the address and according to the requirements set forth below under the heading “Record Access Procedures.”

RECORD ACCESS PROCEDURES:

As specified below, records in this system have been exempted from certain notification, access, and amendment procedures. A request for access to non-exempt records shall be made in writing with the envelope and letter clearly marked “Privacy Act Request.” Each request must provide the requester's full name and complete address. The requester must sign the request and have it verified by a notary public. Alternately, the request may be submitted under 28 U.S.C. 1746, certifying the requester's identity and acknowledging that obtaining records under false pretenses constitutes a criminal offense. Requests for access to information must be addressed to the Director, Information Management Office, Office of the Director of National Intelligence, Washington, DC 20511. Regulations governing access to one's records or for appealing an initial determination concerning access to records are contained in the ODNI regulation implementing the Privacy Act.

CONTESTING RECORD PROCEDURES:

As specified below, records in this system have been exempted from certain notification, access, and amendment procedures. Individuals seeking to correct or amend non-exempt records should address their requests to the ODNI at the address and according to the requirements set forth above under the heading “Record Access Procedures.” Regulations governing access to and amendment of one's records or for appealing an initial determination concerning access or amendment of records are contained in the ODNI regulation implementing the Privacy Act.

RECORD SOURCE CATEGORIES:

Information may be obtained from diplomatic, financial, military, homeland security, intelligence, or law enforcement activities relating to counterterrorism, or from any Federal, State, or local government; foreign government information; private sector or public source material; or, information from other sources necessary to fulfill the mission of NCTC.

EXEMPTIONS CLAIMED FOR THE SYSTEM:

Records contained within this System of Records may be exempted from the requirements of subsections (c)(3);(d)(1),(2),(3),(4); (e)(1) and (e)(4)(G),(H),(I); and (f) of the Privacy Act pursuant to 5 U.S.C. 552a(k)(1) and (k)(2). Records may be exempted from these subsections or, additionally, from the requirements of subsections (c)(4);(e)(2),(3),(5),(8),(12); and (g) of the Privacy Act consistent with any exemptions claimed under 5 U.S.C. 552a(j) or (k) by the originator of the record, provided the reason for the exemption remains valid and necessary.

SYSTEM NAME:

National Counterterrorism Center On-line (NCTC Online or NOL)(ODNI/NCTC-005).

SECURITY CLASSIFICATION:

The classification of records in this system can range from UNCLASSIFIED to TOP SECRET.

SYSTEM LOCATION:

National Counterterrorism Center (NCTC), Office of the Director of National Intelligence (ODNI), Washington, DC 20511.

CATEGORIES OF INDIVIDUALS COVERED BY THE SYSTEM:

Individuals known or suspected to be or have been engaged in conduct constituting, in preparation for, in aid of, or related to terrorism or counterterrorism and individuals who offer information pertaining to terrorism and counterterrorism. The system will also contain information about individuals who have access to the system for counterterrorism purposes.

CATEGORIES OF RECORDS IN THE SYSTEM:

Classified and unclassified intelligence possessed or acquired by the United States Government pertaining to terrorism and counterterrorism; message traffic (cables); finished intelligence products and results of intelligence analysis and reporting (including law enforcement information); information gleaned through links to other systems, databases and collaborative features such as e-mail, communities of interest, and on-line chat rooms; information systems security analysis and reporting; publicly available information (including information contained in media reports and commercial databases); data concerning the providers of information; and, information from other sources necessary to fulfill the mission of NCTC.

AUTHORITY FOR MAINTENANCE OF THE SYSTEM:

The Intelligence Reform and Terrorism Prevention Act of 2004, Pub. L. No. 108-458, 118 Stat. 3638 (Dec. 17, 2004); The National Security Act of 1947, as amended, 50 U.S.C. 401-442; Exec. Order No. 13,354, 69 Fed. Reg. 53,589 (2004); Exec. Order No. 12,333, as amended, 46 Fed. Reg. 59,941 (1981).

PURPOSE(S):

National Counterterrorism Center Online is maintained for the purpose of compiling, assessing, analyzing, integrating, and disseminating information relating to terrorism and counterterrorism.

ROUTINE USES OF RECORDS MAINTAINED IN THE SYSTEM, INCLUDING CATEGORIES OF USERS AND THE PURPOSES OF SUCH USES:

See General Routine Uses Applicable to More Than One ODNI Privacy Act System of Records, Subpart C of ODNI's Privacy Act Regulation published concurrently with this notice and incorporated by reference (see also http://www.dni.gov).

DISCLOSURE TO CONSUMER REPORTING AGENCIES:

None.

POLICIES AND PRACTICES FOR STORING, RETRIEVING, ACCESSING, RETAINING, AND DISPOSING OF RECORDS IN THE SYSTEM:

STORAGE:

Electronic records are stored in secure file-servers located within secure facilities under the control of NCTC. Paper and other hard-copy records are stored in secured areas within the control of NCTC.

RETRIEVABILITY:

By name, social security number, or other identifier. Information may be retrieved from this System of Records by automated or hand searches based on existing indices and automated capabilities utilized in the normal course of business. Only authorized personnel with a need to know may search this system.

SAFEGUARDS:

Information in this system is safeguarded in accordance with recommended and/or prescribed administrative, physical, and technical safeguards. Records are maintained in a secure government or contractor facility with access to the facility limited to authorized personnel only and authorized and escorted visitors. Physical security protections include guards and locked facilities requiring badges and passwords for access. Records are accessed only by authorized government personnel and contractors holding appropriate security clearances and who have a valid business reason to access the records. Communications are encrypted where required and other safeguards are in place to monitor and audit access and to detect intrusions. Backup tapes are maintained in a secure, off-site location.

RETENTION AND DISPOSAL:

Pursuant to 44 U.S.C. 3303a(d) and 36 CFR Chapter 12, Subchapter B, Part 1228—Disposition of Federal Records, records will not be disposed of until such time as the National Archives and Records Administration (NARA) approves an applicable ODNI Records Control Schedule.

SYSTEM MANAGER(S) AND ADDRESS:

NCTC Online System Manager, c/o Director, Information Management Office, Office of the Director of National Intelligence, Washington, DC 20511.

NOTIFICATION PROCEDURES:

As specified below, records in this system have been exempted from certain notification, access, and amendment procedures. Individuals seeking to learn whether this system contains non-exempt information about them (“notification”) should address inquiries to the ODNI at the address and according to the requirements set forth below under the heading “Record Access Procedures.”

RECORD ACCESS PROCEDURES:

As specified below, records in this system have been exempted from certain notification access, and amendment procedures. A request for access to non-exempt records shall be made in writing with the envelope and letter clearly marked “Privacy Act Request.” Each request must provide the requester's full name and complete address. The requester must sign the request and have it verified by a notary public. Alternately, the request may be submitted under 28 U.S.C. 1746, certifying the requester's identity and acknowledging that obtaining records under false pretenses constitutes a criminal offense. Requests for access to information must be addressed to the Director, Information Management Office, Office of the Director of National Intelligence, Washington, D.C. 20511. Regulations governing access to one's records or for appealing an initial determination concerning access to records are contained in the ODNI regulation implementing the Privacy Act.

CONTESTING RECORD PROCEDURES:

As specified below, records in this system have been exempted from certain notification, access, and amendment procedures. Individuals seeking to correct or amend non-exempt records should address their requests to the ODNI at the address and according to the requirements set forth above under the heading “Record Access Procedures.” Regulations governing access to and amendment of one's records or for appealing an initial determination concerning access or amendment of records are contained in the ODNI regulation implementing the Privacy Act.

RECORD SOURCE CATEGORIES:

Information may be obtained from diplomatic, financial, military, homeland security, intelligence or law enforcement activities relating to counterterrorism or from any federal, state, or local government; foreign government information; private sector or public source material; information from other sources necessary to fulfill the mission of NCTC.

EXEMPTIONS CLAIMED FOR THE SYSTEM:

Records contained within this System of Records may be exempted from the requirements of subsections (c)(3); (d)(1), (2), (3), (4); (e)(1) and (e)(4)(G), (H), (I); and (f) of the Privacy Act pursuant to 5 U.S.C. 552a(k)(1) and (k)(2). Records may be exempted from these subsections or, additionally, from the requirements of subsections (c)(4); (e)(2), (3), (5), (8), (12); and (g) of the Privacy Act consistent with any exemptions claimed under 5 U.S.C. 552a(j) or (k) by the originator of the record, provided the reason for the exemption remains valid and necessary.

SYSTEM NAME:

National Counterterrorism Center Partnership Management Records (ODNI/NCTC-006).

SECURITY CLASSIFICATION:

The classification of records in this system can range from UNCLASSIFIED to TOP SECRET.

SYSTEM LOCATION:

National Counterterrorism Center (NCTC), Office of the Director of National Intelligence (ODNI), Washington, DC 20511.

CATEGORIES OF INDIVIDUALS COVERED BY THE SYSTEM:

Current NCTC staff (NCTC employees, detailees, assignees, employees of NCTC industrial contractors, and independent contractors to NCTC) and external participants in activities relating to intelligence matters.

CATEGORIES OF RECORDS IN THE SYSTEM:

Information concerning the purpose or topic of the intelligence activity; the timing, location, or participants involved in each intelligence activity; and, the results of each intelligence activity.

AUTHORITY FOR MAINTENANCE OF THE SYSTEM:

The Intelligence Reform and Terrorism Prevention Act of 2004, Pub. L. No. 108-458, 118 Stat. 3638 (Dec. 17, 2004); The National Security Act of 1947, as amended, 50 U.S.C. 401-442; Exec. Order No. 13,354, 69 Fed. Reg. 53,589 (2004); Exec. Order No. 12,333, as amended, 46 Fed. Reg. 59,941 (1981).

PURPOSE:

NCTC Partnership Management Records are used to manage, track, and facilitate NCTC's relationships with other governmental entities, non-governmental entities, representatives of such entities, and individuals.

ROUTINE USES OF RECORDS MAINTAINED IN THE SYSTEM, INCLUDING CATEGORIES OF USERS AND THE PURPOSES OF SUCH USES:

See General Routine Uses Applicable to More Than One ODNI Privacy Act System of Records, Subpart C of ODNI's Privacy Act Regulation published concurrently with this notice and incorporated by reference (see also http://www.dni.gov).

DISCLOSURE TO CONSUMER REPORTING AGENCIES:

None.

POLICIES AND PRACTICES FOR STORING, RETRIEVING, ACCESSING, RETAINING, AND DISPOSING OF RECORDS IN THE SYSTEM:

STORAGE:

Electronic records are stored in secure file-servers located within secure facilities under the control of NCTC. Paper and other hard-copy records are stored in secured areas within the control of NCTC.

RETRIEVABILITY:

By name, social security number, or other identifier. Information may be retrieved from this System of Records by automated or hand searches based on existing indices and automated capabilities utilized in the normal course of business. Only authorized personnel with a need to know may search this system.

SAFEGUARDS:

Information in this system is safeguarded in accordance with recommended and/or prescribed administrative, physical, and technical safeguards. Records are maintained in a secure government or contractor facility with access to the facility limited to authorized personnel only and authorized and escorted visitors. Physical security protections include guards and locked facilities requiring badges and passwords for access. Records are accessed only by authorized government personnel and contractors holding appropriate security clearances and who have a valid business reason to access the records. Communications are encrypted where required and other safeguards are in place to monitor and audit access and to detect intrusions. Backup tapes are maintained in a secure, off-site location.

RETENTION AND DISPOSAL:

Pursuant to 44 U.S.C. 3303a(d) and 36 CFR Chapter 12, Subchapter B, Part 1228—Disposition of Federal Records, records in the system will not be disposed of until such time as the National Archives and Records Administration approves an applicable ODNI Records Control Schedule.

SYSTEM MANAGER AND ADDRESS:

NCTC Partnership Management Database System Manager, c/o Director, Information Management Office, Office of the Director of National Intelligence, Washington, DC 20511.

NOTIFICATION PROCEDURES:

As specified below, records in this system have been exempted from certain notification, access, and amendment procedures. Individuals seeking to learn whether this system contains non-exempt information about them (“notification”) should address inquiries to the ODNI at the address and according to the requirements set forth below under the heading “Record Access Procedures.”

RECORD ACCESS PROCEDURES:

As specified below, records in this system have been exempted from certain notification, access, and amendment procedures. A request for access to non-exempt records shall be made in writing with the envelope and letter clearly marked “Privacy Act Request.” Each request must provide the requester's full name and complete address. The requester must sign the request and have it verified by a notary public. Alternately, the request may be submitted under 28 U.S.C. 1746, certifying the requester's identity and acknowledging that obtaining records under false pretenses constitutes a criminal offense. Requests for access to information must be addressed to the Director, Information Management Office, Office of the Director of National Intelligence, Washington, DC 20511. Regulations governing access to one's records or for appealing an initial determination concerning access to records are contained in the ODNI regulation implementing the Privacy Act.

CONTESTING RECORD PROCEDURES:

As specified below, records in this system have been exempted from certain notification, access, and amendment procedures. Individuals seeking to correct or amend non-exempt records should address their requests to the ODNI at the address and according to the requirements set forth above under the heading “Record Access Procedures.” Regulations governing access to and amendment of one's records or for appealing an initial determination concerning access or amendment of records are contained in the ODNI regulation implementing the Privacy Act.

RECORD SOURCE CATEGORIES:

Information concerning NCTC's external outreach and liaison efforts with governmental and non-governmental entities, their representatives, and associated individuals.

EXEMPTIONS CLAIMED FOR THE SYSTEM:

Records contained within this System of Records may be exempted from the requirements of subsections (c)(3); (d)(1), (2), (3), (4); (e)(1) and (e)(4)(G), (H), (I); and (f) of the Privacy Act pursuant to 5 U.S.C. 552a(k)(1). Records may be exempted from these subsections or, additionally, from the requirements of subsections (c)(4); (e)(2), (3), (5), (8), (12); and (g) of the Privacy Act consistent with any exemptions claimed under 5 U.S.C. 552a(j) or (k) by the originator of the record, provided the reason for the exemption remains valid and necessary.

SYSTEM NAME:

National Counterterrorism Center Tacit Knowledge Management Records (ODNI/NCTC-007).

SECURITY CLASSIFICATION:

The classification of records in this system can range from UNCLASSIFIED to TOP SECRET.

SYSTEM LOCATION:

National Counterterrorism Center (NCTC), Office Of The Director Of National Intelligence (ODNI), Washington, DC 20511.

CATEGORIES OF INDIVIDUALS COVERED BY THE SYSTEM:

Current and former NCTC staff (nctc employees, detailees, assignees, employees of NCTC industrial contractors, and independent contractors to NCTC).

CATEGORIES OF RECORDS IN THE SYSTEM:

Documentation relating to the training, skills, and experience of NCTC staff in matters of intelligence analysis, including name, employing entity, job title, relevant employment history and specific expertise.

AUTHORITY FOR MAINTENANCE OF THE SYSTEM:

The Intelligence Reform And Terrorism Prevention Act Of 2004, Pub. L. No. 108-458, 118 Stat. 3638 (Dec. 17, 2004); The National Security Act Of 1947, As Amended, 50 U.S.C. 401-442; Exec. Order No. 13,354, 69 Fed. Reg. 53,589; Exec. Order No.12,333, As Amended, 46 Fed. Reg. 59,941 (1981).

PURPOSE(S):

NCTC Tacit Knowledge Management Records constitute a repository of pertinent knowledge and experience held by the NCTC workforce that NCTC can draw upon to modify, enhance, or otherwise inform its intelligence integration and analysis activities.

ROUTINE USES OF RECORDS MAINTAINED IN THE SYSTEM, INCLUDING CATEGORIES OF USERS AND THE PURPOSES OF SUCH USES:

See General Routine Uses Applicable to more than one ODNI Privacy Act System of Records, Subpart C of ODNI's Privacy Act Regulation published concurrently with this notice and incorporated by reference (see also http://www.dni.gov).

DISCLOSURE TO CONSUMER REPORTING AGENCIES:

None.

POLICIES AND PRACTICES FOR STORING, RETRIEVING, ACCESSING, RETAINING, AND DISPOSING OF RECORDS IN THE SYSTEM:

STORAGE:

Electronic records are stored in secure file-servers located within secure facilities under the control of NCTC. Paper and other hard-copy records are stored in secured areas within the control of NCTC.

RETRIEVABILITY:

By name or other identifier, information may be retrieved from this system of records by automated or hand searches based on existing indices and automated capabilities utilized in the normal course of business. Only authorized personnel with a need to know may search this system.

SAFEGUARDS:

Information in this system is safeguarded in accordance with recommended and/or prescribed administrative, physical, and technical safeguards. Records are maintained in a secure government or contractor facility with access to the facility limited to authorized personnel only and authorized and escorted visitors. Physical security protections include guards and locked facilities requiring badges and passwords for access. Records are accessed only by authorized government personnel and contractors holding appropriate security clearances and who have a valid business reason to access the records. Communications are encrypted where required and other safeguards are in place to monitor and audit access and to detect intrusions. Backup tapes are maintained in a secure, off-site location.

RETENTION AND DISPOSAL:

Pursuant to 44 U.S.C. 3303a(D) and 36 Cfr Chapter 12, Subchapter B, Part 1228—Disposition Of Federal Records, Records will not be disposed of until such time as the National Archives And Records Administration (NARA) approves an applicable ODNI Records Control Schedule.

SYSTEM MANAGER(S) AND ADDRESS:

NCTC Information Management Officer, c/o Director Information Management Office, Office Of The Director Of National Intelligence, Washington, DC 20511.

NOTIFICATION PROCEDURES:

As specified below, records in this system have been exempted from certain notification, access, and amendment procedures. Individuals seeking to learn whether this system contains non-exempt information about them (“Notification”) should address inquiries to the ODNI at the address and according to the requirements set forth below under the heading “Record Access Procedures.”

RECORD ACCESS PROCEDURES:

As specified below, records in this system have been exempted from certain notification, access, and amendment procedures. A request for access to non-exempt records shall be made in writing with the envelope and letter clearly marked “Privacy Act Request.” Each request must provide the requester's full name and complete address. The requester must sign the request and have it verified by a notary public. Alternately, the request may be submitted under 28 U.S.C. 1746, certifying the requester's identity and acknowledging that obtaining records under false pretenses constitutes a criminal offense. Requests for access to information must be addressed to the Director, Information Management Office, Office Of The Director Of National Intelligence, Washington, DC 20511. Regulations governing access to one's records or for appealing an initial determination concerning access to records are contained in the ODNI regulation implementing the privacy act.

CONTESTING RECORD PROCEDURES:

As specified below, records in this system have been exempted from certain notification, access, and amendment procedures. Individuals seeking to correct or amend non-exempt records should address their requests to the ODNI at the address and according to the requirements set forth above under the heading “Record Access Procedures.” Regulations governing access to and amendment of one's records or for appealing an initial determination concerning access or amendment of records are contained in the ODNI regulation implementing the Privacy Act.

RECORD SOURCE CATEGORIES:

Personal interviews with NCTC staff.

EXEMPTIONS CLAIMED FOR THE SYSTEM:

Records contained within this system of records may be exempted from the requirements of subsections (C)(3); (D)(1), (2), (3), (4); (E)(1) And (E)(4)(G), (H), (I); And (F) Of The Privacy Act Pursuant To 5 U.S.C. 552a(K)(1). Records may be exempted from these subsections or, additionally, from the requirements of subsections (C)(4);(E)(2),(3),(5),(8),(12); and (G) of the privacy act consistent with any exemptions claimed under 5 U.S.C. 552a(J) or (K) by the originator of the record, provided the reason for the exemption remains valid and necessary.

SYSTEM NAME:

National Counterterrorism Center Terrorism Analysis Records (ODNI/NCTC-008).

SECURITY CLASSIFICATION:

The classification of records in this system can range from unclassified to top secret.

SYSTEM LOCATION:

National Counterterrorism Center (NCTC), Office Of The Director Of National Intelligence (ODNI), Washington, DC 20511.

CATEGORIES OF INDIVIDUALS COVERED BY THE SYSTEM:

Individuals known or suspected to be or have been engaged in conduct constituting, in preparation for, in aid of, or related to terrorism or who have been linked in any manner to terrorism; individuals who offer information pertaining to terrorism and counterterrorism. This system will also contain information about individuals who have access to the system for counterterrorism purposes.

CATEGORIES OF RECORDS IN THE SYSTEM:

Classified and unclassified information from diplomatic, financial, military, homeland security, intelligence, or law enforcement activities relating to counterterrorism, or from any Federal, State, or local government; foreign government information; public source material; or information from other sources necessary to fulfill the mission of NCTC. This includes information concerning known or suspected terrorists including, but not limited to, reports, message traffic, biographic data, biometrics, relationships or associations, or other information related to counterterrorism.

AUTHORITY FOR MAINTENANCE OF THE SYSTEM:

The Intelligence Reform and Terrorism Prevention Act of 2004, Pub. L. No. 108-458, 118 stat. 3638 (Dec. 17, 2004); the National Security Act of 1947, as amended, 50 U.S.C. 401-442; Exec. Order No. 13,354, 69 Fed. Reg. 53,589 (2004); Exec. Order No. 12,333, as amended, 46 Fed. Reg. 59,941 (1981).

PURPOSE(S):

NCTC Terrorism Analysis Records serve NCTC analysts in developing threat reports, threat matrices, analytic reports and advisories, situation reports, and other terrorism analytical products for distribution to intelligence consumers.

ROUTINE USES OF RECORDS MAINTAINED IN THE SYSTEM, INCLUDING CATEGORIES OF USERS AND THE PURPOSES OF SUCH USES:

See General Routine Uses Applicable To More Than One Odni Privacy Act System Of Records, Subpart C Of Odni's Privacy Act Regulation Published Concurrently with this notice and incorporated by reference (See Also http://www.dni.gov).

DISCLOSURE TO CONSUMER REPORTING AGENCIES:

NONE.

POLICIES AND PRACTICES FOR STORING, RETRIEVING, ACCESSING, RETAINING, AND DISPOSING OF RECORDS IN THE SYSTEM:

STORAGE:

Electronic records are stored in secure file-servers located within secure facilities within NCTC. Paper and Other Hard-Copy Records are stored in secured areas within the control of NCTC.

RETRIEVABILITY:

By name or other identifier. Information may be retrieved from this system of records by automated or hand searches based on existing indices and automated capabilities utilized in the normal course of business. Only authorized personnel with a need to know may search this system.

SAFEGUARDS:

Information in this system is safeguarded in accordance with recommended and/or prescribed administrative, physical, and technical safeguards. Records are maintained in a secure government or contractor facility with access to the facility limited to authorized personnel only and authorized and escorted visitors. Physical security protections include guards and locked facilities requiring badges and passwords for access. Records are accessed only by authorized government personnel and contractors holding appropriate security clearances and who have a valid business reason to access the records. Communications are encrypted where required and other safeguards are in place to monitor and audit access and to detect intrusions. Backup tapes are maintained in a secure, off-site location.

RETENTION AND DISPOSAL:

Pursuant To 44 U.S.C. 3303a(D) and 36 CFR Chapter 12, Subchapter B, Part 1228—Disposition of Federal Records, Records will not be disposed of until such time as the National Archives And Records Administration Approves an Applicable ODNI Records Control Schedule.

SYSTEM MANAGER(S) AND ADDRESS:

NCTC Information Management Officer, c/o Director, Information Management Office, Office Of The Director Of National Intelligence, Washington, DC 20511.

NOTIFICATION PROCEDURES:

As specified below, records in this system have been exempted from certain notification, access, and amendment procedures. Individuals seeking to learn whether this system contains non-exempt information about them (“notification”) should address inquiries to the ODNI at the address and according to the requirements set forth below under the heading “record access procedures.”

RECORD ACCESS PROCEDURES:

As specified below, records in this system have been exempted from certain notification, access, and amendment procedures. A request for access to non-exempt records shall be made in writing with the envelope and letter clearly marked “privacy act request.” Each request must provide the requester's full name and complete address. The requester must sign the request and have it verified by a notary public. Alternately, the request may be submitted under 28 U.S.C. 1746, certifying the requester's identity and acknowledging that obtaining records under false pretenses constitutes a criminal offense. Requests for access to information must be addressed to the director, information management office, office of the director of national intelligence, Washington, DC 20511. Regulations governing access to one's records or for appealing an initial determination concerning access to records are contained in the ODNI regulation implementing the privacy act.

CONTESTING RECORD PROCEDURES:

As specified below, records in this system have been exempted from certain notification, access, and amendment procedures. Individuals seeking to correct or amend non-exempt records should address their requests to the ODNI at the address and according to the requirements set forth above under the heading “record access procedures.” Regulations governing access to and amendment of one's records or for appealing an initial determination concerning access or amendment of records are contained in the ODNI regulation implementing the Privacy Act.

RECORD SOURCE CATEGORIES:

Information may be obtained from diplomatic, financial, military, homeland security, intelligence, or law enforcement activities relating to counterterrorism, or from any federal, state, or local government; foreign government information; private sector Or public source material; or information from other sources necessary to fulfill the mission of NCTC.

EXEMPTIONS CLAIMED FOR THE SYSTEM:

Records Contained Within This System Of Records May Be Exempted From The Requirements Of Subsections (C)(3); (D)(1),(2),(3),(4); (E)(1) And (E)(4)(G),(H),(I); And (F) Of The Privacy Act Pursuant To 5 U.S.C. 552a(K)(1) And (K)(2). Records May Be Exempted From These Subsections Or, Additionally, From The Requirements Of Subsections (C)(4);(E)(2),(3),(5),(8),(12); And (G) Of The Privacy Act Consistent With Any Exemptions Claimed Under 5 U.S.C. 552a(J) Or (K) By The Originator Of The Record, Provided The Reason For The Exemption Remains Valid And Necessary.

SYSTEM NAME:

Terrorist identities records (ODNI/NCTC-009).

SECURITY CLASSIFICATION:

The classification of records in this system can range from unclassified to top secret.

SYSTEM LOCATION:

National Counterterrorism Center (NCTC), Office of the Director of National Intelligence (ODNI), Washington, DC 20511.

CATEGORIES OF INDIVIDUALS COVERED BY THE SYSTEM:

Individuals known or suspected to be or have been engaged in conduct constituting, in preparation for, in aid of, or related to terrorism; information concerning individuals affiliated with terrorist groups; individuals possessing certain visas; and individuals who may have been misidentified in relation to one or more of the previous categories for purposes of avoiding future misidentification. The system will also contain information about individuals who have access to the system for counterterrorism purposes.

CATEGORIES OF RECORDS IN THE SYSTEM:

Individuals known or suspected to be or have been engaged in conduct constituting, in preparation for, in aid of, or related to terrorism or counterterrorism, including names and aliases; dates of birth; places of birth, alien registration numbers, visa numbers, social security account numbers, or unique identifying numbers; passport information; countries of origin or nationalities; physical identifiers; known locations; photographs or renderings; fingerprints or biometrics; employment data; phone numbers or license plate numbers; and other information about such individuals. This system includes the Terrorist Identities Datamart Environment (TIDE), which maintains international terrorist watch list recommendations and distributes them to the Terrorist Screening Center for screening by U.S. government agencies.

AUTHORITY FOR MAINTENANCE OF THE SYSTEM:

The Intelligence Reform and Terrorism Prevention Act of 2004, Pub. L. No. 108-458, 118 Stat. 3638 (Dec. 17, 2004); The National Security Act of 1947, as amended, 50 U.S.C. 401-442; Exec. Order No. 13,388, 70 FR 62,023 (2005); Exec. Order No. 13,354, 69 Fed. Reg. 53,589 (2004); Exec. Order No. 12,333 as amended, 46 FR 59,941 (1981); Homeland Security Presidential Directive-6; Homeland Security Presidential Directive-11.

PURPOSE(S):

NCTC Terrorist Identities Records implement NCTC's mission to serve as the central and shared knowledge bank on known and suspected terrorists pursuant to Section 119 of the National Security Act of 1947, 50 U.S.C. 404o, as well as Homeland Security Presidential Directive-6, “Integration and Use of Screening Information” (September 16, 2003) and Homeland Security Presidential Directive-11, “Comprehensive Terrorist—Related Screening Procedures” (Aug. 27, 2004).

ROUTINE USES OF RECORDS MAINTAINED IN THE SYSTEM, INCLUDING CATEGORIES OF USERS AND THE PURPOSES OF SUCH USES:

See General Routine Uses Applicable to More Than One ODNI Privacy Act System of Records, Subpart C of ODNI's Privacy Act Regulation published concurrently with this notice and incorporated by reference (see also http://www.dni.gov).

DISCLOSURE TO CONSUMER REPORTING AGENCIES:

None.

POLICIES AND PRACTICES FOR STORING, RETRIEVING, ACCESSING, RETAINING, AND DISPOSING OF RECORDS IN THE SYSTEM:

STORAGE:

Electronic records are stored in secure file-servers located within secure facilities under the control of NCTC. Paper and other hard-copy records are stored in secured areas within the control of NCTC.

RETRIEVABILITY:

By name, social security number, or other identifier. Information may be retrieved from this System of Records by automated or hand searches based on existing indices and automated capabilities utilized in the normal course of business. Only authorized personnel with a need to know may search this system.

SAFEGUARDS:

Information in this system is safeguarded in accordance with recommended and/or prescribed administrative, physical, and technical safeguards. Records are maintained in a secure government or contractor facility with access to the facility limited to authorized personnel only and authorized and escorted visitors. Physical security protections include guards and locked facilities requiring badges and passwords for access. Records are accessed only by authorized government personnel and contractors holding appropriate security clearances and who have a valid business reason to access the records. Communications are encrypted where required and other safeguards are in place to monitor and audit access and to detect intrusions. Backup tapes are maintained in a secure, off-site location.

RETENTION AND DISPOSAL:

Pursuant to 44 U.S.C. 3303a(d) and 36 CFR Chapter 12, Subchapter B, Part 1228-Disposition of Federal Records, records will not be disposed of until such time as the National Archives and Records Administration (NARA) approves an applicable ODNI Records Control Schedule.

SYSTEM MANAGER(S) AND ADDRESS:

NCTC Terrorist Identities Records System Manager, c/o Director, Information Management Office, Office of the Director of National Intelligence, Washington, DC 20511.

NOTIFICATION PROCEDURES:

As specified below, records in this system have been exempted from certain notification, access, and amendment procedures. Individuals seeking to learn whether this system contains non-exempt information about them (“notification”) should address inquiries to the ODNI at the address and according to the requirements set forth below under the heading “Record Access Procedures.”

RECORD ACCESS PROCEDURES:

As specified below, records in this system have been exempted from certain notification, access, and amendment procedures. A request for access to non-exempt records shall be made in writing with the envelope and letter clearly marked “Privacy Act Request.” Each request must provide the requester's full name and complete address. The requester must sign the request and have it verified by a notary public. Alternately, the request may be submitted under 28 U.S.C. 1746, certifying the requester's identity and acknowledging that obtaining records under false pretenses constitutes a criminal offense. Requests for access to information must be addressed to the Director, Information Management Office, Office of the Director of National Intelligence, Washington, DC 20511. Regulations governing access to one's records or for appealing an initial determination concerning access to records are contained in the ODNI regulation implementing the Privacy Act.

CONTESTING RECORD PROCEDURES:

As specified below, records in this system have been exempted from certain notification, access, and amendment procedures. Individuals seeking to correct or amend non-exempt records should address their requests to the ODNI at the address and according to the requirements set forth above under the heading “Record Access Procedures.” Regulations governing access to and amendment of one's records or for appealing an initial determination concerning access or amendment of records are contained in the ODNI regulation implementing the Privacy Act.

RECORD SOURCE CATEGORIES:

Information may be obtained from diplomatic, financial, military, homeland security, intelligence or law enforcement activities relating to counterterrorism, or from any Federal, State, or local government; foreign government information; private sector or public source material; information from other sources necessary to fulfill the mission of NCTC.

EXEMPTIONS CLAIMED FOR THE SYSTEM:

Records contained within this System of Records may be exempted from the requirements of subsections (c)(3); (d)(1), (2), (3), (4); (e)(1) and (e)(4)(G), (H), (I); and (f) of the Privacy Act pursuant to 5 U.S.C. 552a(k)(1) and (k)(2). Records may be exempted from these subsections or, additionally, from the requirements of subsections (c)(4); (e)(2), (3), (5), (8), (12); and (g) of the Privacy Act consistent with any exemptions claimed under 5 U.S.C. 552a(j) or (k) by the originator of the record, provided the reason for the exemption remains valid and necessary.

[FR Doc. E7-25267 Filed 12-27-07; 8:45 am]

BILLING CODE 3910-A7-P